FEDERAL MARITIME COMMISSION

Ocean Transportation Intermediary License; Applicants

Notice is hereby given that the following applicants have filed with the Federal Maritime Commission an application for license as a Non-Vessel-Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel—Operating Common Carrier Ocean Transportation Intermediary Applicants

Maxfreight International Logistics, Inc., 708 S. Hindry Avenue, Inglewood, CA 90301, Officers: David Yasuo Miyamoto, CEO (Qualifying Individual), Barry Chiang, Director.

Five Continent Line, L.L.C., 2065 S. Escondido Blvd., #101, Escondido, CA 92025, Officer: Alycia Cerini, Managing Member (Qualifying Individual).

Logical Solution Services, Inc., dba Cruz World Shipping, 317 Brick Blvd., Brick, NJ 08723, Officer: Victor Cruz, President (Qualifying Individual).

Willy Express Shipping, Inc., 1327 Webster Avenue, Bronx, NY 10456, Officer: Nelson W. Rivera, President (Qualifying Individual).

Stevens Global Logistics, dba Stevens Global Freight Services, 3700 Redondo Beach Avenue, Redondo Beach, CA 90278, Officers: Thomas Petrizzio, CEO (Qualifying Individual), Larry Coyle, President.

Non-Vessel—Operating Common Carrier and Ocean Freight Forwarder Transportation Intermediary Applicants

International Trade Management Group, LLC, 611 Live Oak Drive, McLean, VA 22101, Officers: Lahyan Diab, Member, Isahm Diab, Member.

Oceanexpress Shipping LLC, dba Oceanexpress, 411 North Harbor Blvd., Suite 203, San Pedro, CA 90731, Officer: Paul D. Snell, Vice President (Qualifying Individual).

Carijamaica Freight & Shipping, LLC, 8524 NW 72nd Street, Miami, FL 33166, Officers: Devon Grant, President (Qualifying Individual), Marcia Sayles, Vice President.

Scanwell Logistics (LAX) Inc., 615 N. Nash Street, Suite 202, El Segundo, CA 94025, Officers: Dennis Choy, President (Qualifying Individual) Adam Hassan, Chairman.

Advanced Logistics Group Inc., 20644 S. Fordyce Avenue, Carson, CA 90810-1019, Officers: Joseph L. Vidal, CEO (Qualifying Individual), Patricia McElroy, Director.

TSL Express, Inc., 1041 S. Garfield Avenue, Suite 205, Alhambra, CA 91801, Officers: Joseph Cho-Fung Yeung, CFO, Ho Ying Chu (Yo Yo), Secretary (Qualifying Individuals), Yuen Yee Chan, CEO.

Ocean Freight Forwarder—Ocean Transportation Intermediary Applicant

World Wide International, Inc., 5900 Roche Drive, Suite LL 20, Columbus, OH 43229, Officers: Carolyn Sue Logan, President (Qualifying Individual), Melvin C. Logan, Vice President.

International Shipping Company, dba ISC International Shipping Company, 6425 Tireman, Detroit, MI 48204, Officers: Nachaat, Mazeh, President (Qualifying Individual), Ali Kain, Vice President.

Supply Chain Shipping LLC, 4607 44th Street S.E., Grand Rapids, MI 49512, Officers: John M. Toles, Managing Partner, (Qualifying Individual), James W. Ward, Partner.

Shipping Overseas Specialist, Inc., 1121 A Industrial Parkway, Brick, NJ 08724, Officers: Anthony Cavaliere, President (Qualifying Individual), Mike Dragin, Secretary.

Dated: November 23, 2005.
Bryant L. VanBrakle,
Secretary.

[FR Doc. 05-23474 Filed 11-29-05; 8:45 am]

BILLING CODE 6730-01-P